DEPARTMENT OF ENERGY

Federal Energy Regulatory Commission

[Project No. 2438-121]

Seneca Falls Power Corporation; C-S Canal Hydro, LLC; Notice of Application for Transfer of License and Soliciting Comments, Motions To Intervene, and Protests

On October 13, 2015, Seneca Falls Power Corporation (transferor) and C-S Canal Hydro, LLC (transferee) filed an application for transfer of license of the Seneca Falls Hydroelectric Project No. 2438. The project is located on the Seneca River in Seneca, Yates, Schuyler, and Ontario counties, New York.

The applicants seek Commission approval to transfer the license for the Seneca Falls Hydroelectric Project from the transferor to the transferee.

Applicant Contact: For transferor: Mr. Scott Goodwin, President, Seneca Falls Power Corporation, 3330 Clayton Road, Suite B, Concord, CA 94519, telephone 925-692-2798. For transferee: Mr. Mark Boumansour, COO, C-S Canal Hydro, LLC, c/o Gravity Renewables, Inc., 1401 Walnut Street, Suite 220, Boulder, CO 80302, telephone: 303-440-3378 and Mr. Karl F. Kumli, III, Dietze and Davis, P.C., 2060 Broadway, Suite 400, Boulder, CO 80302, telephone: 303-447-1375.

FERC Contact: Patricia W. Gillis, (202) 502-8735.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2438-121.

Dated: October 20, 2015.
Kimberly D. Bose,
Secretary.

[FR Doc. 2015-27176 Filed 10-26-15; 8:45 am]

BILLING CODE 6717-01-P